SECURITIES AND EXCHANGE COMMISSION

[Release No. 34-86892; File No. SR-CBOE-2019-054]

Self-Regulatory Organizations; Cboe Exchange, Inc.; Notice of Filing and Immediate Effectiveness of a Proposed Rule Change Relating to the Dissemination of End-of-Day Indicative Values Via the Options Price Reporting Authority

September 6, 2019.

Pursuant to Section 19(b)(1) of the Securities Exchange Act of 1934 (“Act”),¹ and Rule 19b-4 thereunder,² notice is hereby given that on August 29, 2019, Cboe Exchange, Inc. (the “Exchange” or “Cboe Options”) filed with the Securities and Exchange Commission (the “Commission”) the proposed rule change as described in Items I, II, and III below, which Items have been prepared by the Exchange. The Exchange filed the proposal as a “non-controversial” proposed rule change pursuant to Section 19(b)(3)(A)(iii) of the Act ³ and Rule 19b-4(f)(6) thereunder.⁴ The Commission is publishing this notice to solicit comments on the proposed rule change from interested persons.

¹ 15 U.S.C. 78s(b)(1).

² 17 CFR 240.19b-4.

³ 15 U.S.C. 78s(b)(3)(A)(iii).

⁴ 17 CFR 240.19b-4(f)(6).

I. Self-Regulatory Organization's Statement of the Terms of Substance of the Proposed Rule Change

Cboe Exchange, Inc. (the “Exchange” or “Cboe Options”) proposes that the dissemination of end-of-day indicative values via the Options Price Reporting Authority (“OPRA”) will not be discontinued pursuant to SR-CBOE-2019-046.

The text of the proposed rule change is also available on the Exchange's website (http://www.cboe.com/AboutCBOE/CBOELegalRegulatoryHome.aspx), at the Exchange's Office of the Secretary, and at the Commission's Public Reference Room.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in sections A, B, and C below, of the most significant aspects of such statements.

A. Self-Regulatory Organization's Statement of the Purpose of, and Statutory Basis for, the Proposed Rule Change

1. Purpose

On August 12, 2019, the Exchange filed a rule filing, SR-CBOE-2019-046, which, amended Exchange Rules in connection with end-of-month (“EOM”) and end-of-day (“EOD”) indicative values.⁵ Pursuant to SR-CBOE-2019-046, which will be effective on October 7, 2019, the Exchange stated that it would discontinue the dissemination of indicative values via OPRA. In addition to this, the proposed change under SR-CBOE-2019-046 provides that the Exchange will make indicative values publicly available, e.g., on its website. The Exchange, however, has determined that it will continue the dissemination of indicative values via OPRA while also making such values publicly available. The Exchange notes that this will not impact the manner in which the EOD indicative values rule will function pursuant to SR-CBOE-2019-046, nor alter the free access market participants will have to the indicative values made publicly available pursuant to the proposed rule. This update is merely intended to continue to allow the dissemination of indicative values via OPRA in the same manner they are currently disseminated and made available to current OPRA subscribers. The indicative values disseminated via OPRA will continue to be clearly marked with an “I” indicator to distinguish them as indicative values, and not a quote or last sale. In order to coincide with the effective date of SR-CBOE-2019 and the migration of the Exchange's trading platform to the same system used by the Cboe Affiliated Exchanges,⁶ the Exchange also intends to implement this proposed rule change on October 7, 2019.

⁵ See SR-CBOE-2019-046 (August 12, 2019).

⁶ In 2016, the Exchange's parent company, Cboe Global Markets, Inc. (formerly named CBOE Holdings, Inc.) (“Cboe Global”), which is also the parent company of Cboe C2 Exchange, Inc. (“C2”), acquired Cboe EDGA Exchange, Inc. (“EDGA”), Cboe EDGX Exchange, Inc. (“EDGX” or “EDGX Options”), Cboe BZX Exchange, Inc. (“BZX” or “BZX Options”), and Cboe BYX Exchange, Inc. (“BYX” and, together with Cboe Options, C2, EDGX, EDGA, and BZX, the “Cboe Affiliated Exchanges”).

2. Statutory Basis

The Exchange believes the proposed rule change is consistent with the Securities Exchange Act of 1934 (the “Act”) and the rules and regulations thereunder applicable to the Exchange and, in particular, the requirements of Section 6(b) of the Act.⁷ Specifically, the Exchange believes the proposed rule change is consistent with the Section 6(b)(5) ⁸ requirements that the rules of an exchange be designed to prevent fraudulent and manipulative acts and practices, to promote just and equitable principles of trade, to foster cooperation and coordination with persons engaged in regulating, clearing, settling, processing information with respect to, and facilitating transactions in securities, to remove impediments to and perfect the mechanism of a free and open market and a national market system, and, in general, to protect investors and the public interest. Additionally, the Exchange believes the proposed rule change is consistent with the Section 6(b)(5) ⁹ requirement that the rules of an exchange not be designed to permit unfair discrimination between customers, issuers, brokers, or dealers.

⁷ 15 U.S.C. 78f(b).

⁸ 15 U.S.C. 78f(b)(5).

⁹ Id.

The proposed rule change is merely continuing the dissemination of indicative values via OPRA, without altering the proposed rule under SR-CBOE-2019-046 that the indicative values data will also be made publicly available, e.g., on the Exchange's website. This will proposed amendment will not impact the manner in which the proposed rule pursuant to SR-CBOE-2019-046 will function nor the public access that market participants will have to indicative values, but will merely allow indicative values to continue to be disseminated via OPRA, a process which market participants are already familiar with and for which many already subscribe. Thus, continuing the dissemination of indicative values via OPRA with not impact market participants as it will continue to allow OPRA to disseminate indicative values to market participants that already subscribe to their data or wish to subscribe. Moreover, the indicative values disseminated via OPRA will continue to be clearly marked with an “I” indicator to distinguish them as indicative values, and not a quote or last sale, thereby protecting investors. As a result of the above, the proposed amendment serves to protect investors by fostering coordination with persons engaged in the processing of information with respect to securities and removing impediments to and perfecting the mechanism of a free and open market and a national market system.

B. Self-Regulatory Organization's Statement on Burden on Competition

The Exchange does not believe that the proposed change will impose any burden on competition that is not necessary or appropriate in furtherance of the purposes of the Act. The proposed amendment to continue the dissemination of indicative values via OPRA, rather than discontinue them under SR-CBOE-2019-046 (effective October 7, 2019), is merely allowing a dissemination process currently in place to continue, thus allowing for market participants who currently subscribe to OPRA data to continue to receive such values through OPRA after October 7, 2019. As this is a process currently in place, the Exchange believes this proposed filing to allow for its continuation will have no impact on competition.

C. Self-Regulatory Organization's Statement on Comments on the Proposed Rule Change Received From Members, Participants, or Others

The Exchange neither solicited nor received comments on the proposed rule change.

III. Date of Effectiveness of the Proposed Rule Change and Timing for Commission Action

The Exchange has designated this rule filing as non-controversial under Section 19(b)(3)(A) ¹⁰ of the Act and Rule 19b-4(f)(6) ¹¹ thereunder. Because the proposed rule change does not: (i) Significantly affect the protection of investors or the public interest; (ii) impose any significant burden on competition; and (iii) become operative for 30 days from the date on which it was filed, or such shorter time as the Commission may designate, it has become effective pursuant to Section 19(b)(3)(A) of the Act and Rule 19b-4(f)(6) thereunder.

¹⁰ 15 U.S.C. 78s(b)(3)(A).

¹¹ 17 CFR 240.19b-4(f)(6).

At any time within 60 days of the filing of the proposed rule change, the Commission summarily may temporarily suspend such rule change if it appears to the Commission that such action is necessary or appropriate in the public interest, for the protection of investors, or otherwise in furtherance of the purposes of the Act. If the Commission takes such action, the Commission shall institute proceedings under Section 19(b)(2)(B) ¹² of the Act to determine whether the proposed rule change should be approved or disapproved.

¹² 15 U.S.C. 78s(b)(2)(B).

IV. Solicitation of Comments

Interested persons are invited to submit written data, views, and arguments concerning the foregoing, including whether the proposed rule change is consistent with the Act. Comments may be submitted by any of the following methods:

Electronic Comments

• Use the Commission's internet comment form (http://www.sec.gov/rules/sro.shtml); or

• Send an email to rule-comments@sec.gov. Please include File Number SR-CBOE-2019-054 on the subject line.

Paper Comments

• Send paper comments in triplicate to the Secretary, Securities and Exchange Commission, 100 F Street NE, Washington, DC 20549-1090.

All submissions should refer to File Number SR-CBOE-2019-054. This file number should be included on the subject line if email is used. To help the Commission process and review your comments more efficiently, please use only one method. The Commission will post all comments on the Commission's internet website (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for website viewing and printing in the Commission's Public Reference Room, 100 F Street NE, Washington, DC 20549, on official business days between the hours of 10:00 a.m. and 3:00 p.m. Copies of the filing also will be available for inspection and copying at the principal office of the Exchange. All comments received will be posted without change. Persons submitting comments are cautioned that we do not redact or edit personal identifying information from comment submissions. You should submit only information that you wish to make available publicly. All submissions should refer to File Number SR-CBOE-2019-054 and should be submitted on or before October 3, 2019.

For the Commission, by the Division of Trading and Markets, pursuant to delegated authority.¹³
¹³ 17 CFR 200.30-3(a)(12).
Jill M. Peterson,
Assistant Secretary.

[FR Doc. 2019-19706 Filed 9-11-19; 8:45 am]

BILLING CODE 8011-01-P